DEPARTMENT OF HEALTH AND HUMAN SERVICES

Administration for Children and Families

[CFDA Number: 93.568]

Proposed Reallotment of Fiscal Year 2023 Funds for the Low Income Home Energy Assistance Program

AGENCY: Office of Community Services (OCS), Administration for Children and Families (ACF), Department of Health and Human Services (HHS).

ACTION: Notice for public comment.

SUMMARY: The ACF, OCS, Division of Energy Assistance announces a preliminary determination that funds from the federal fiscal year 2023 (FY23) Low Income Home Energy Assistance Program (LIHEAP) are available for reallotment to states, territories, tribes, and tribal organizations that received FY24 direct LIHEAP awards. The purpose of this award is to redistribute FY23 annual LIHEAP funds that recipients were unable to obligate or carry over to FY24. No sub-recipients of these recipients or other entities may apply for these funds.

DATES: Comments are due by: October 21, 2024.

ADDRESSES: Comments may be submitted to: Peter Edelman, Program Analyst, Office of Community Services, Administration for Children and Families, 330 C Street SW, 5th Floor; Mail Room 5425; Washington, DC 20201 or via email: peter.edelman@acf.hhs.gov. Comments may also be faxed to 202-401-5661.

FOR FURTHER INFORMATION CONTACT: Akm Rahman, Program Operations Branch Chief, Division of Energy Assistance, Office of Community Services, 330 C Street SW, 5th Floor; Mail Room 5425; Washington, DC 20201. Telephone: 202-401-5306; email: Akm.Rahman@acf.hhs.gov.

SUPPLEMENTARY INFORMATION: After receiving Federal Financial Reports (FFRs), Carryover and Reallotment Reports (CRRs), and fourth-quarter Quarterly Reports (QRs) from FY23 LIHEAP recipients, ACF has determined that $18,363,980 in FY23 LIHEAP funds may be available for reallotment for FY24. This determination was based on the reports of 75 recipients and the total obligations of 4 recipients. LIHEAP recipients submitted the FY23 CRRs to OCS, as required by regulations applicable to LIHEAP at 45 CFR 96.81(b).

The LIHEAP statute allows recipients who have funds unobligated at the end of the FY for which they are awarded to request that they be allowed to carry over up to 10 percent of their full-year allotments to the next FY (42 U.S.C. 8626(b)(2)). Funds in excess of this amount must be returned to the U.S. Department of Health and Human Services and are subject to reallotment under 42 U.S.C. 8626(b)(1).

In accordance with 42 U.S.C. 8626(b)(3), ACF notified each of the 79 recipients that reported or, in the absence of reporting, had potentially $18,363,980 of unobligated funds above their carryover caps. In these notices, ACF told each recipient about the amount that, according to the recipients' reports, it needed to return for de-obligation and redistribution to FY24 recipients as part of the reallotment. It also gave each recipient 30 calendar days to provide comments directly to ACF.

All LIHEAP recipients that receive a portion of these funds will be notified of the final reallotment amount redistributed to them for FY24. This decision will also be published in the Federal Register and in a Dear Colleague Letter that is posted to ACF's website under LIHEAP Dear Colleague Letters.

The FY23 LIHEAP funds that ACF preliminarily expects to become available for reallotment determination come from the following recipients in the following amounts:

Name of recipient that has funds to be returned for reallotment | Preliminary amount available for reallotment ¹
Alaska | $4,917,545
Idaho | 4,896,940
Michigan | 55,139
Commonwealth of the Northern Mariana Islands | 47,429
Absentee Shawnee Tribe of Indians of Oklahoma | 14,595
Alabama-Quassarte Tribal Town | 18,204
Aniak Traditional Council | 49,847
Berry Creek Rancheria | 11,727
Big Valley Band of Pomo Indians | 3,150
Bishop Paiute Tribe | 17,447
Blackfeet Tribe | 66,242
Catawba Indian Nation | 14,656
Cheyenne and Arapaho Tribes | 7,692
Choctaw Nation of Oklahoma | 80,195
Chuathbaluk Traditional Council | 34,383
Cocopah Indian Tribe | 20,605
Coeur d'Alene Tribe | 18,278
Comanche Nation | 4,726
Confederated Salish and Kootenai Tribes | 360,718
Confederated Tribes of Siletz Indians of Oregon | 42,360
Confederated Tribes of the Grand Ronde Community of Oregon | 15,524
Cow Creek Band of Umpqua Tribe of Indians | 511
Dena'Nena'Henash—Tanana Chiefs Conference | 26,018
Eastern Shoshone Tribe | 135,825
Fort Peck Assiniboine and Sioux Tribes | 584,537
Gila River Indian Community | 73,461
Hoh Tribe | 2,212
Hoopa Valley Tribe | 12,878
Hopland Band of Pomo Indians | 2,852
Houlton Band of Maliseet Indians | 201,488
Indian Township Tribal Government | 528,130
Inter-Tribal Council of MI, Inc | 129,655
Jicarilla Apache Nation | 42,275
Karuk Tribe | 1,746
Kaw Nation | 5,017
Kiowa Tribe of Oklahoma | 89,127
Little River Band of Ottawa Indians | 10,074
Lower Elwha Klallam Tribe | 7,986
Lummi Nation | 19,363
Makah Tribe | 25,257
Mashpee Wampanoag Tribe | 171,286
Mi'kmaq Nation | 44,858
Mississippi Band of Choctaw Indians | 8,426
Modoc Nation | 1,426
Muckleshoot Indian Tribe | 1,110
Navajo Nation | 800,838
Nooksack Indian Tribe | 36,196
Northern Arapaho Tribe | 19,950
Northern California Indian Development Council, Inc | 846
Northern Cheyenne Tribe | 25,583
Oglala Sioux Tribe | 28,490
Orutsararmiut Native Council | 276,283
Otoe-Missouria Tribe of Indians | 6,087
Paiute Indian Tribe of Utah | 140,249
Pawnee Nation of Oklahoma | 6,740
Pleasant Point Tribal Government | 50,685
Poarch Band of Creek Indians | 146,887
Pueblo of Jemez | 12,562
Pueblo of Zuni | 28,337
Quapaw Nation | 22,161
Quileute Tribe | 69,502
Quinault Indian Nation | 17,503
Riverside-San Bernardino County Indian Health, Inc | 6,645
Sac and Fox Nation of Oklahoma | 6,573
Samish Indian Nation | 14,590
San Carlos Apache Tribe | 8,904
Sault Ste. Marie Tribe of Chippewa Indians | 1,064
Sitka Tribe of Alaska | 53,222
Spirit Lake Nation | 101,127
Spokane Tribe of Indians | 23,773
Standing Rock Sioux Tribe | 2,896,833
Swinomish Indian Tribal Community | 39,631
The Delaware Tribe of Indians | 4,501
The Klamath Tribes | 162,427
Tonkawa Tribe of Oklahoma | 3,374
Turtle Mountain Band of Chippewa Indians | 69,032
United Cherokee Ani-Yun-Wiya Nation | 55,932
Ute Indian Tribe | 8,647
Yankton Sioux Tribe | 395,886
Total | 18,363,980
¹ Preliminary funds for reallotment consist of the funds in excess of LIHEAP's 10 percent carryover cap that (1) 75 recipients indicated on the FFRs or reported on the CRRs or QRs as unobligated; or (2) amounted to 100 percent of regular funds or IIJA funds for the 4 recipients that failed to submit the associated FFRs and their CRRs or QRs.

If funds are reallotted, then they will be allocated in accordance with 42 U.S.C. 8623 and must be treated by LIHEAP recipients that receive them as funds appropriated for FY24. As FY24 funds, they will be subject to all requirements of the LIHEAP statute, including 42 U.S.C. 8626(b)(2), which requires that a recipient obligate at least 90 percent of its total block grant allocation for a fiscal year by the end of the fiscal year for which the funds are appropriated; that is, by September 30, 2024. Furthermore, recipients that receive these funds may use these funds for any purpose authorized under LIHEAP and must add them to their total LIHEAP funds payable for FY24 for purposes of calculating statutory caps on administrative costs, carryover, Assurance 16 activities, and weatherization assistance.

Additionally, all recipients of these funds must (1) ensure that these funds are included in the amounts on Lines 1.1 of their FY24 CRRs; (2) reconcile these funds, to the extent that they received them, on their corresponding FFRs; and (3) record, on their FY24 Household Reports, households that receive benefits at least partly from these funds. State recipients must also ensure that these funds are included in the Grantee Survey sections of their FY24 LIHEAP Performance Data Forms.

Statutory Authority: 42 U.S.C. 8626(b).

Anthony Petruccelli,
Senior Grants Policy Specialist, Office of Grants Policy, Office of Administration.

[FR Doc. 2024-21390 Filed 9-18-24; 8:45 am]

BILLING CODE 4184-80-P